DEPARTMENT OF COMMERCE

National Oceanic and Atmospheric Administration

RIN 0648-XT51

Gulf of Mexico Fishery Management Council; Public Meeting; Correction

AGENCY: National Marine Fisheries Service (NMFS), National Oceanic and Atmospheric Administration (NOAA), Commerce.

ACTION: Council to convene public meeting.

SUMMARY: The Gulf of Mexico Fishery Management Council will convene joint meetings of the Standing, Special Shrimp, Special Spiny Lobster and Special Reef Fish Scientific and Statistical Committees. This document is being corrected and republished in its entirety.

DATES: The meetings of the Standing, Special Shrimp and Special Spiny Lobster Scientific and Statistical Committees will convene at 1:30 pm on Wednesday, January 20, 2010 and conclude no later than 5:30 pm. The meeting of the Standing and Special Reef Fish Scientific Statistical Committees will convene at 8:30 am on Thursday, January 21, 2010 and conclude no later than 12 pm on Friday, January 22, 2010. The meetings will be webcast over the internet. A link to the webcast will be available on the Council's web site, http://www.gulfcouncil.org.

ADDRESSES: The meeting will be held at the Crowne Plaza, 2829 Williams Blvd, Kenner, LA 70062.

Council address: Gulf of Mexico Fishery Management Council, 2203 N. Lois Avenue, Suite 1100, Tampa, Florida, 33607.

FOR FURTHER INFORMATION CONTACT: Dr. Richard Leard, Deputy Executive Director; Gulf of Mexico Fishery Management Council; telephone: 813-348-1630.

SUPPLEMENTARY INFORMATION:

Correction

The original document was published at 74 FR 68788, December 29, 2009, and one sentence at the end of the first paragraph under SUPPLEMENTARY INFORMATION was omitted and is corrected in this document.

The Standing and Special Shrimp Scientific Statistical Committees will meet to review new approaches for assessing the stock of pink shrimp and possibly other shrimp species in the Gulf, and possibly make recommendations to the Council. The Standing and Special Spiny Lobster Scientific Statistical Committees will review the terms of reference for an upcoming update assessment and make recommendations for the Gulf and South Atlantic Fishery Management Councils to consider. The Standing and Special Reef Fish Scientific Statistical Committees will review potential species groupings for the Generic Annual Catch Limits and Accountability Measures Amendment. They will also review progress on development of an Acceptable Biological Catch Control Rule for data-poor species that will be included in the Generic Amendment. Finally, the Scientific and Statistical Committee will review the National Standard 2 guidelines and possibly provide recommendations to the Council.

Copies of the agenda and other related materials can be obtained by calling 813-348-1630 or can be downloaded from the Council's ftp site, ftp.gulfcouncil.org.

Although other non-emergency issues not on the agenda may come before the Scientific and Statistical Committees for discussion, in accordance with the Magnuson-Stevens Fishery Conservation and Management Act, those issues may not be the subject of formal action during this meeting. Actions of the Scientific and Statistical Committees will be restricted to those issues specifically identified in the agenda and any issues arising after publication of this notice that require emergency action under Section 305(c) of the Magnuson-Stevens Fishery Conservation and Management Act, provided the public has been notified of the Council's intent to take action to address the emergency.

Special Accommodations

These meetings are physically accessible to people with disabilities. Requests for sign language interpretation or other auxiliary aids should be directed to Tina O'Hern at the Council (see ADDRESSES) at least five working days prior to the meeting.

Dated: December 30, 2009.
Tracey L. Thompson,
Acting Director, Office of Sustainable Fisheries, National Marine Fisheries Service.

[FR Doc. E9-31230 Filed 1-4-10; 8:45 am]

BILLING CODE 3510-22-S